ENVIRONMENTAL PROTECTION AGENCY

[EPA-HQ-OAR-2020-0532, EPA-HQ-OAR-2022-0067, EPA-HQ-OAR-2022-0074, et al.; FRL-12894-01-OAR]

Proposed Information Collection Request; Comment Request

AGENCY: Environmental Protection Agency (EPA).

ACTION: Notice.

SUMMARY: The U.S. Environmental Protection Agency is planning to submit the below listed information collection requests (ICRs) to the Office of Management and Budget (OMB) for review and approval in accordance with the Paperwork Reduction Act (PRA), 44 U.S.C. 3501-3521. Before doing so, the EPA is soliciting public comments on specific aspects of the proposed ICRs as described below. These are proposed extensions of currently approved ICRs. An Agency may not conduct or sponsor a collection of information unless it displays a currently valid OMB control number. Likewise, no person is required to respond to a collection of information unless it displays a currently valid OMB control number.

DATES: Comments must be submitted on or before November 18, 2025.

ADDRESSES: Submit your comments, referencing the Docket ID numbers provided for each item in the text, online using www.regulations.gov (our preferred method), by email to a-and-r-docket@epa.gov or by mail to: EPA Docket Center, Environmental Protection Agency, Mail Code 28221T, 1200 Pennsylvania Avenue NW, Washington, DC 20460.

The EPA's policy is that all comments received will be included in the public docket without change including any personal information provided, unless the comment includes profanity, threats, information claimed to be Confidential Business Information (CBI), or other information whose disclosure is restricted by statute.

FOR FURTHER INFORMATION CONTACT: Mr. Muntasir Ali, Sector Policies and Programs Division, (D243-05), Office of Air Quality Planning and Standards, U.S. Environmental Protection Agency, Research Triangle Park, North Carolina 27711; telephone number: (919) 541-0833; email address: Ali.Muntasir@epa.gov.

SUPPLEMENTARY INFORMATION: Supporting documents that explain in detail the information that the EPA will be collecting are available in the public docket for this ICR. The docket can be viewed online at www.regulations.gov or in person at the EPA Docket Center, WJC West Building, Room 3334, 1301 Constitution Avenue NW, Washington, DC. The telephone number for the Docket Center is (202) 566-1744. For additional information about EPA's public docket, visit https://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). The EPA will consider the comments received and will amend the ICR as appropriate. The final ICR package will then be submitted to OMB for review and approval. At that time, the EPA will issue another Federal Register document to announce the submission of the ICR to OMB and the opportunity to submit additional comments to OMB.

General Abstract: For all the listed ICRs in this notice, affected facilities are required to comply with reporting and record keeping requirements for the general provisions of 40 CFR part 60, subpart A; part 61, subpart A; and part 63, subpart A, as well as the applicable specific standards. This includes submitting initial notifications, performance tests and periodic reports and results, and maintaining records of the occurrence and duration of any startup, shutdown, or malfunction in the operation of an affected facility or any period during which the monitoring system is inoperative. These reports are used by EPA to determine compliance with the standards.

(1) Docket ID Number: EPA-HQ-OAR-2020-0532; NESHAP for Cyanide Chemicals Manufacturing (Renewal); EPA ICR Number 2678.03; OMB Control Number 2060-0739; Expiration date January 31, 2027.

Respondents: Cyanide chemical manufacturing facilities.

Respondent's obligation to respond: Mandatory (40 CFR part 63, subpart YY).

Estimated number of respondents: 13.

Frequency of response: Initially, occasionally, annually.

Estimated Annual burden: 169 hours.

Estimated Annual cost: $17,108, includes $433 annualized capital or operations & maintenance (O&M) costs.

Changes in Estimates: There is no projected change in burden from the previous ICR.

(2) Docket ID Number: EPA-HQ-OAR-2022-0067; NSPS for Magnetic Tape Coating Facilities (Renewal); EPA ICR Number 1135.15; OMB Control Number 2060-0171; Expiration date June 30, 2027.

Respondents: Magnetic tape coating facilities.

Respondent's obligation to respond: Mandatory (40 CFR part 60, subpart SSS).

Estimated number of respondents: 4.

Frequency of response: Initially, semiannually, quarterly.

Estimated Annual burden: 811 hours.

Estimated Annual cost: $132,000, includes $34,900 annualized capital or O&M costs.

Changes in Estimates: There is no projected change in burden from the previous ICR.

(3) Docket ID Number: EPA-HQ-OAR-2022-0074; NSPS for Secondary Brass and Bronze Production, Primary Copper Smelters, Primary Zinc Smelters, Primary Lead Smelters, Primary Aluminum Reduction Plants, and Ferroalloy Production Facilities (Renewal); EPA ICR Number 1604.14; OMB Control Number 2060-0110; Expiration date June 30, 2027.

Respondents: Secondary brass and bronze production facilities, primary copper smelters, primary zinc smelters, primary lead smelters, primary aluminum reduction plants, and ferroalloy production facilities.

Respondent's obligation to respond: Mandatory (40 CFR part 60, subparts M, P, Q, R, S, Z).

Estimated number of respondents: 14.

Frequency of response: Semiannually, annually, monthly.

Estimated Annual burden: 2,008 hours.

Estimated Annual cost: $349,000, includes $107,100 annualized capital or O&M costs.

Changes in Estimates: There is no projected change in burden from the previous ICR.

(4) Docket ID Number: EPA-HQ-OAR-2022-0023; NSPS for Small Municipal Waste Combustors (Renewal); EPA ICR Number 1900.09; OMB Control Number 2060-0423; Expiration date June 30, 2027.

Respondents: Municipal solid waste combustion facilities.

Respondent's obligation to respond: Mandatory (40 CFR part 60, subpart AAAA).

Estimated number of respondents: 6.

Frequency of response: Initially, annually, semiannually.

Estimated Annual burden: 18,695 hours.

Estimated Annual cost: $2,180,000, includes $154,000 annualized capital or O&M costs.

Changes in Estimates: There is no projected change in burden from the previous ICR.

(5) Docket ID Number: EPA-HQ-OAR-2022-0024; NSPS for Commercial and Industrial Solid Waste Incineration Units (Renewal); EPA ICR Number 1926.1; OMB Control Number 2060-0450; Expiration date June 30, 2027.

Respondents: Commercial and industrial solid waste incineration units.

Respondent's obligation to respond: Mandatory (40 CFR part 60, subpart CCCC).

Estimated number of respondents: 13.

Frequency of response: Annually, semiannually.

Estimated Annual burden: 2,800 hours.

Estimated Annual cost: $512,000, includes $176,000 annualized capital or O&M costs.

Changes in Estimates: There is no projected change in burden from the previous ICR.

(6) Docket ID Number: EPA-HQ-OAR-2022-0025; Emission Guidelines for Existing Commercial and Industrial Solid Waste Incineration Units (Renewal); EPA ICR Number 1927.1; OMB Control Number 2060-0451; Expiration date June 30, 2027.

Respondents: Commercial and industrial solid waste incinerators.

Respondent's obligation to respond: Mandatory (40 CFR part 60, subpart DDDD).

Estimated number of respondents: 74.

Frequency of response: Initially, annually, semiannually.

Estimated Annual burden: 16,100 hours.

Estimated Annual cost: $3,110,000, includes $1,170,000 annualized capital or O&M costs.

Changes in Estimates: There is no projected change in burden from the previous ICR.

(7) Docket ID Number: EPA-HQ-OAR-2021-0096; NESHAP for Asbestos (Renewal); EPA ICR Number 0111.17; OMB Control Number 2060-0101; Expiration date July 31, 2027.

Respondents: Demolition and renovation facilities; asbestos waste disposal; asbestos milling, manufacturing and fabricating; the use of asbestos on roadways; asbestos waste converting facilities; and the use of asbestos insulation and sprayed-on materials.

Respondent's obligation to respond: Mandatory (40 CFR part 61, subpart M).

Estimated number of respondents: 9,743.

Frequency of response: Quarterly, semiannually, and annually.

Estimated Annual burden: 297,000 hours.

Estimated Annual cost: $35,100,000. There are no annualized capital or O&M costs.

Changes in Estimates: There is a projected increase in burden due to an increase in the number of sources subject to the regulation.

(8) Docket ID Number: EPA-HQ-OAR-2022-0058; NSPS for Sewage Sludge Treatment Plants (Renewal); EPA ICR Number 1063.16; OMB Control Number 2060-0035; Expiration date July 31, 2027.

Respondents: Sewage sludge treatment plants.

Respondent's obligation to respond: Mandatory (40 CFR part 60, subpart O).

Estimated number of respondents: 103.

Frequency of response: Initially, semiannually.

Estimated Annual burden: 12,000 hours.

Estimated Annual cost: $5,250,000, includes $3,810,000 annualized capital or O&M costs.

Changes in Estimates: There is a projected increase in burden due to an increase in the number of sources subject to the regulation.

(9) Docket ID Number: EPA-HQ-OAR-2022-0072; NSPS/NESHAP for Wool Fiberglass Insulation Manufacturing Plants (Renewal); EPA ICR Number 1160.16; OMB Control Number 2060-0114; Expiration date July 31, 2027.

Respondents: Wool fiberglass insulation manufacturing plants.

Respondent's obligation to respond: Mandatory (40 CFR part 60, subpart PPP and 40 CFR part 63, subpart NNN).

Estimated number of respondents: 38.

Frequency of response: Semiannually.

Estimated Annual burden: 5,580 hours.

Estimated Annual cost: $1,250,000, includes $585,445 annualized capital or O&M costs.

Changes in Estimates: There is a projected increase in burden due to an increase in the number of sources subject to the regulation.

(10) Docket ID Number: EPA-HQ-OAR-2022-0022; Emission Guidelines for Hospital/Medical/Infectious Waste Incinerators (Renewal); EPA ICR Number 1899.11; OMB Control Number 2060-0422; Expiration date July 31, 2027.

Respondents: Hospital/medical/infectious waste incineration units.

Respondent's obligation to respond: Mandatory (40 CFR part 60, subpart Ce and 40 CFR part 62, subpart HHH).

Estimated number of respondents: 28.

Frequency of response: Annually, semiannually.

Estimated Annual burden: 19,178 hours.

Estimated Annual cost: $2,430,000, includes $239,000 annualized capital or O&M costs.

Changes in Estimates: There is no projected change in burden from the previous ICR.

(11) Docket ID Number: EPA-HQ-OAR-2021-0099; NESHAP for Wet-Formed Fiberglass Mat Production (Renewal); EPA ICR Number 1964.11; OMB Control Number 2060-0496; Expiration date July 31, 2027.

Respondents: Wet-formed fiberglass mat production facilities.

Respondent's obligation to respond: Mandatory (40 CFR part 63, subpart HHHH).

Estimated number of respondents: 7.

Frequency of response: Semiannually.

Estimated Annual burden: 1,470 hours.

Estimated Annual cost: $174,000. There are no annualized capital or O&M costs.

Changes in Estimates: There is no projected change in burden from the previous ICR.

(12) Docket ID Number: EPA-HQ-OAR-2022-0028; NESHAP for Miscellaneous Organic Chemical Manufacturing (Renewal); EPA ICR Number 1969.11; OMB Control Number 2060-0533; Expiration date July 31, 2027.

Respondents: Miscellaneous organic chemical manufacturing facilities.

Respondent's obligation to respond: Mandatory (40 CFR part 63, subpart FFFF).

Estimated number of respondents: 201.

Frequency of response: Initially, semiannually.

Estimated Annual burden: 339,220 hours.

Estimated Annual cost: $50,100,000, includes $11,539,616 annualized capital or O&M costs.

Changes in Estimates: There is no projected change in burden from the previous ICR.

(13) Docket ID Number: EPA-HQ-OAR-2022-0031; NESHAP for the Wood Products Surface Coating Industry (Renewal); EPA ICR Number 2034.11; OMB Control Number 2060-0510; Expiration date July 31, 2027.

Respondents: Facilities that perform surface coating of wood building products.

Respondent's obligation to respond: Mandatory (40 CFR part 63, subpart QQQQ).

Estimated number of respondents: 57.

Frequency of response: Initially, semiannually.

Estimated Annual burden: 20,600 hours.

Estimated Annual cost: $2,470,000, includes $4,800 annualized capital or O&M costs.

Changes in Estimates: There is no projected change in burden from the previous ICR.

(14) Docket ID Number: EPA-HQ-OAR-2021-0118; NESHAP for Mercury Cell Chlor-Alkali Plants (Renewal); EPA ICR Number 2046.13; OMB Control Number 2060-0542; Expiration date July 31, 2027.

Respondents: Mercury cell chlor-alkali facilities.

Respondent's obligation to respond: Mandatory (40 CFR part 63, subpart IIIII).

Estimated number of respondents: 1.

Frequency of response: Semiannually.

Estimated Annual burden: 1,880 hours.

Estimated Annual cost: $231,000, includes $8,200 annualized capital or O&M costs.

Changes in Estimates: There is no projected change in burden from the previous ICR.

(15) Docket ID Number: EPA-HQ-OAR-2022-0042; NESHAP for Area Sources: Asphalt Processing and Asphalt Roofing Manufacturing (Renewal); EPA ICR Number 2352.07; OMB Control Number 2060-0634; Expiration date July 31, 2027.

Respondents: Asphalt processing and asphalt roofing manufacturers.

Respondent's obligation to respond: Mandatory (40 CFR part 63, subpart AAAAAAA).

Estimated number of respondents: 59.

Frequency of response: Semiannually.

Estimated Annual burden: 2,370 hours.

Estimated Annual cost: $286,000, includes $885 annualized capital or O&M costs.

Changes in Estimates: There is no projected change in burden from the previous ICR.

(16) Docket ID Number: EPA-HQ-OAR-2021-0126; NESHAP for Polyvinyl Chloride and Copolymers Production Area Sources (Renewal); EPA ICR Number 2454.06; OMB Control Number 2060-0684; Expiration date July 31, 2027.

Respondents: Polyvinyl chloride and copolymer production facilities.

Respondent's obligation to respond: Mandatory (40 CFR part 63, subpart DDDDDD).

Estimated number of respondents: 3.

Frequency of response: Semiannually.

Estimated Annual burden: 73,300 hours.

Estimated Annual cost: $9,670,000, includes $1,000,000 annualized capital or O&M costs.

Changes in Estimates: There is no projected change in burden from the previous ICR.

(17) Docket ID Number: EPA-HQ-OAR-2022-0062; NSPS for Phosphate Rock Plants (Renewal); EPA ICR Number 1078.14; OMB Control Number 2060-0111; Expiration date August 31, 2027.

Respondents: Phosphate rock plants.

Respondent's obligation to respond: Mandatory (40 CFR part 60, subpart NN).

Estimated number of respondents: 1.

Frequency of response: Semiannually.

Estimated Annual burden: 120 hours.

Estimated Annual cost: $22,400, includes $8,400 annualized capital or O&M costs.

Changes in Estimates: There is no projected change in burden from the previous ICR.

(18) Docket ID Number: EPA-HQ-OAR-2022-0063; NSPS for Industrial-Commercial-Institutional Steam Generating Units (Renewal); EPA ICR Number 1088.17; OMB Control Number 2060-0072; Expiration date August 31, 2027.

Respondents: Industrial/commercial/institutional steam generating units.

Respondent's obligation to respond: Mandatory (40 CFR part 60, subpart Db).

Estimated number of respondents: 2068.

Frequency of response: Semiannually, quarterly.

Estimated Annual burden: 1,890,010 hours.

Estimated Annual cost: $265,000,000, includes $37,900,000 annualized capital or O&M costs.

Changes in Estimates: There is a projected increase in burden due to an increase in the number of sources subject to the regulation.

(19) Docket ID Number: EPA-HQ-OAR-2021-0107; NESHAP for Metal Furniture Surface Coating (Renewal); EPA ICR Number 1952.11; OMB Control Number 2060-0518; Expiration date August 31, 2027.

Respondents: Metal furniture surface coating facilities.

Respondent's obligation to respond: Mandatory (40 CFR part 63, subpart RRRR).

Estimated number of respondents: 16.

Frequency of response: Semiannually.

Estimated Annual burden: 4,270 hours.

Estimated Annual cost: $505,000. There are no annualized capital or O&M costs.

Changes in Estimates: There is no projected change in burden from the previous ICR.

(20) Docket ID Number: EPA-HQ-OAR-2021-0115; NESHAP for Paint Stripping and Miscellaneous Surface Coating at Area Sources (Renewal); EPA ICR Number 2268.09; OMB Control Number 2060-0607; Expiration date August 31, 2027.

Respondents: Paint stripping operations using methylene chloride (MeCl)-containing paint strippers, motor vehicle and mobile equipment surface coating operations, and miscellaneous surface coating operations.

Respondent's obligation to respond: Mandatory (40 CFR part 63, subpart HHHHHH).

Estimated number of respondents: 7,962.

Frequency of response: Initially and annually.

Estimated Annual burden: 101,972 hours.

Estimated Annual cost: $12,100,000, includes $27,150 annualized capital or O&M costs.

Changes in Estimates: There is no projected change in burden from the previous ICR.

(21) Docket ID Number: EPA-HQ-OAR-2022-0041; NESHAP for Paints and Allied Products Manufacturing Area Source Category (Renewal); EPA ICR Number 2348.07; OMB Control Number 2060-0633; Expiration date August 31, 2027.

Respondents: Paint and allied products manufacturing facilities.

Respondent's obligation to respond: Mandatory (40 CFR part 63, subpart CCCCCCC).

Estimated number of respondents: 219.

Frequency of response: Initially, annually, semiannually.

Estimated Annual burden: 504 hours.

Estimated Annual cost: $134,000. There are no annualized capital or O&M costs.

Changes in Estimates: There is no projected change in burden from the previous ICR.

(22) Docket ID Number: EPA-HQ-OAR-2023-0115; NSPS for Nitric Acid Plants (Renewal); EPA ICR Number 1056.15; OMB Control Number 2060-0019; Expiration date September 30, 2027.

Respondents: Nitric acid production units producing weak (30 to 70 percent) nitric acid.

Respondent's obligation to respond: Mandatory (40 CFR part 60, subparts G and Ga).

Estimated number of respondents: 35.

Frequency of response: Initially and semiannually.

Estimated Annual burden: 2,841 hours.

Estimated Annual cost: $4,690,000, includes $4,330,000 annualized capital or O&M costs.

Changes in Estimates: There is a projected increase in burden due to an increase in the number of sources subject to the regulation.

(23) Docket ID Number: EPA-HQ-OAR-2022-0065; NESHAP for Inorganic Arsenic Emissions from Primary Copper Smelters (Renewal); EPA ICR Number 1089.08; OMB Control Number 2060-0044; Expiration date September 30, 2027.

Respondents: Primary copper smelters.

Respondent's obligation to respond: Mandatory (40 CFR part 61, subpart O).

Estimated number of respondents: 3.

Frequency of response: Annually, quarterly.

Estimated Annual burden: 6,260 hours.

Estimated Annual cost: $753,000, includes $1,500 annualized capital or O&M costs.

Changes in Estimates: There is no projected change in burden from the previous ICR.

(24) Docket ID Number: EPA-HQ-OAR-2022-0071; NSPS for Rubber Tire Manufacturing (Renewal); EPA ICR Number 1158.15; OMB Control Number 2060-0156; Expiration date September 30, 2027.

Respondents: Rubber tire manufacturing facilities.

Respondent's obligation to respond: Mandatory (40 CFR part 60, subpart BBB).

Estimated number of respondents: 41.

Frequency of response: Annually, semiannually.

Estimated Annual burden: 17,700 hours.

Estimated Annual cost: $2,150,000, includes $18,600 annualized capital or O&M costs.

Changes in Estimates: There is no projected change in burden from the previous ICR.

(25) Docket ID Number: EPA-HQ-OAR-2021-0087; NESHAP for Benzene Waste Operations (Renewal); EPA ICR Number 1541.14; OMB Control Number 2060-0183; Expiration date September 30, 2027.

Respondents: Facilities that generate waste containing benzene.

Respondent's obligation to respond: Mandatory (40 CFR part 61, subpart FF).

Estimated number of respondents: 270.

Frequency of response: Quarterly and annually.

Estimated Annual burden: 19,500 hours.

Estimated Annual cost: $2,310,000. There are no annualized capital or O&M costs.

Changes in Estimates: There is no projected change in burden from the previous ICR.

(26) Docket ID Number: EPA-HQ-OAR-2021-0097; NESHAP for Municipal Solid Waste Landfills (Renewal); EPA ICR Number 1938.09; OMB Control Number 2060-0505; Expiration date September 30, 2027.

Respondents: Municipal solid waste landfills.

Respondent's obligation to respond: Mandatory (40 CFR part 63, subpart AAAA).

Estimated number of respondents: 1169.

Frequency of response: Semiannually.

Estimated Annual burden: 35,500 hours.

Estimated Annual cost: $3,290,000, includes $11,100 annualized capital or O&M costs.

Changes in Estimates: There is a projected increase in burden due to an increase in the number of sources subject to the regulation.

(27) Docket ID Number: EPA-HQ-OAR-2022-0033; NESHAP for Automobile and Light-duty Truck Surface Coating (Renewal); EPA ICR Number 2045.1; OMB Control Number 2060-0550; Expiration date September 30, 2027.

Respondents: Automobile and light-duty truck surface coating operations.

Respondent's obligation to respond: Mandatory (40 CFR part 63, subpart IIII).

Estimated number of respondents: 43.

Frequency of response: Semiannually.

Estimated Annual burden: 17,910 hours.

Estimated Annual cost: $2,070,000, includes $51,600 annualized capital or O&M costs.

Changes in Estimates: There is no projected change in burden from the previous ICR.

(28) Docket ID Number: EPA-HQ-OAR-2017-0668; NESHAP for Printing, Coating and Dyeing of Fabrics and Other Textiles (Renewal); EPA ICR Number 2071.11; OMB Control Number 2060-0522; Expiration date September 30, 2027.

Respondents: Printing, coating, slashing, dyeing or finishing of fabric and other textiles facilities.

Respondent's obligation to respond: Mandatory (40 CFR part 63, subpart OOOO).

Estimated number of respondents: 43.

Frequency of response: Semiannually.

Estimated Annual burden: 7,080 hours.

Estimated Annual cost: $960,000, includes $123,000 annualized capital or O&M costs.

Changes in Estimates: There is no projected change in burden from the previous ICR.

(29) Docket ID Number: EPA-HQ-OAR-2022-0039; NESHAP for Area Sources: Polyvinyl Chloride and Copolymers Production, Primary Copper Smelting, Secondary Copper Smelting, and Primary Nonferrous Metals-Zinc, Cadmium, and Beryllium (Renewal); EPA ICR Number 2240.09; OMB Control Number 2060-0596; Expiration date September 30, 2027.

Respondents: Primary copper smelters, secondary copper smelters, and primary zinc, cadmium, and beryllium production facilities that are area sources of HAP.

Respondent's obligation to respond: Mandatory (40 CFR part 63, subparts EEEEEE, FFFFFF, and GGGGGG).

Estimated number of respondents: 3.

Frequency of response: Initially, annually.

Estimated Annual burden: 41 hours.

Estimated Annual cost: $4,970. There are no annualized capital or O&M costs.

Changes in Estimates: There is no projected change in burden from the previous ICR.

(30) Docket ID Number: EPA-HQ-OAR-2021-0123; NESHAP for Chemical Manufacturing Area Sources (Renewal); EPA ICR Number 2323.09; OMB Control Number 2060-0621; Expiration date September 30, 2027.

Respondents: Chemical manufacturing facilities.

Respondent's obligation to respond: Mandatory (40 CFR part 63, subpart VVVVVV).

Estimated number of respondents: 548.

Frequency of response: Semiannually.

Estimated Annual burden: 10,500 hours.

Estimated Annual cost: $2,830,000, includes $1,590,000 annualized capital or O&M costs.

Changes in Estimates: There is a projected increase in burden due to an increase in the number of sources subject to the regulation.

(31) Docket ID Number: EPA-HQ-OAR-2022-0076; NESHAP for Halogenated Solvent Cleaners/Halogenated Hazardous Air Pollutants (Renewal); EPA ICR Number 1652.12; OMB Control Number 2060-0273; Expiration date October 31, 2027.

Respondents: Halogenated solvent cleaners.

Respondent's obligation to respond: Mandatory (40 CFR part 63, subpart T).

Estimated number of respondents: 931.

Frequency of response: Annually, semiannually, quarterly.

Estimated Annual burden: 31,300 hours.

Estimated Annual cost: $4,420,000, includes $660,000 annualized capital or O&M costs.

Changes in Estimates: There is no projected change in burden from the previous ICR.

(32) Docket ID Number: EPA-HQ-OAR-2010-0682; NESHAP for Petroleum Refineries (Renewal); EPA ICR Number 1692.14; OMB Control Number 2060-0340; Expiration date October 31, 2027.

Respondents: Petroleum refineries.

Respondent's obligation to respond: Mandatory (40 CFR part 63, subpart CC).

Estimated number of respondents: 142.

Frequency of response: Initially, semiannually, and quarterly.

Estimated Annual burden: 614,074 hours.

Estimated Annual cost: $98,000,000, includes $32,628,000 annualized capital or O&M costs.

Changes in Estimates: There is no projected change in burden from the previous ICR.

(33) Docket ID Number: EPA-HQ-OAR-2023-0130; NESHAP for Cellulose Products Manufacturing (Renewal); EPA ICR Number 1974.13; OMB Control Number 2060-0488; Expiration date October 31, 2027.

Respondents: Cellulose Products Manufacturing Plants.

Respondent's obligation to respond: Mandatory (40 CFR part 63, subpart UUUU).

Estimated number of respondents: 8.

Frequency of response: Initially and semiannually.

Estimated Annual burden: 7,256 hours.

Estimated Annual cost: $1,078,427, includes $163,533 annualized capital or O&M costs.

Changes in Estimates: There is no projected change in burden from the previous ICR.

(34) Docket ID Number: EPA-HQ-OAR-2021-0102; NESHAP for Flexible Polyurethane Foam Fabrication (Renewal); EPA ICR Number 2027.11; OMB Control Number 2060-0516; Expiration date November 30, 2027.

Respondents: Flexible polyurethane foam fabrication facilities.

Respondent's obligation to respond: Mandatory (40 CFR part 63, subpart MMMMM).

Estimated number of respondents: 3.

Frequency of response: Semiannually.

Estimated Annual burden: 113 hours.

Estimated Annual cost: $21,600, includes $10,100 annualized capital or O&M costs.

Changes in Estimates: There is no projected change in burden from the previous ICR.

(35) Docket ID Number: EPA-HQ-OAR-2021-0103; NESHAP for Asphalt Processing and Asphalt Roofing Manufacturing (Renewal); EPA ICR Number 2029.1; OMB Control Number 2060-0520; Expiration date November 30, 2027.

Respondents: Major source asphalt processing or asphalt roofing manufacturing facilities.

Respondent's obligation to respond: Mandatory (40 CFR part 63, subpart LLLLL).

Estimated number of respondents: 8.

Frequency of response: Initially, semiannually and periodically.

Estimated Annual burden: 4,000 hours.

Estimated Annual cost: $558,000, includes $84,900 annualized capital or O&M costs.

Changes in Estimates: There is no projected change in burden from the previous ICR.

(36) Docket ID Number: EPA-HQ-OAR-2021-0121; NESHAP for Industrial, Commercial, and Institutional Boilers Area Sources (Renewal); EPA ICR Number 2253.06; OMB Control Number 2060-0668; Expiration date November 30, 2027.

Respondents: Industrial, commercial, or institutional boilers.

Respondent's obligation to respond: Mandatory (40 CFR part 63, subpart JJJJJJ).

Estimated number of respondents: 64,344.

Frequency of response: Initially, annually, biennially.

Estimated Annual burden: 1,143,000 hours.

Estimated Annual cost: $213,900,000, includes $78,600,000 annualized capital or O&M costs.

Changes in Estimates: There is a projected decrease in burden due to anticipated shutdown of existing sources.

David Cozzie,
Acting Director, Sector Policies and Programs Division.

[FR Doc. 2025-18190 Filed 9-18-25; 8:45 am]

BILLING CODE 6560-50-P